DEPARTMENT OF THE INTERIOR

Bureau of Indian Affairs

Environmental Impact Statement for the Proposed Ione Band of Miwok Indians' Trust Acquisition and Casino Project, Amador County, California

AGENCY: Bureau of Indian Affairs, Interior.

ACTION: Notice of additional public scoping meeting and extension of comment period for scoping.

SUMMARY: This notice announces that the Bureau of Indian Affairs is holding an additional public scoping meeting and extending the comment period for identifying potential issues and content for inclusion in the Environmental Impact Statement (EIS) for the Proposed Ione Band of Miwok Indians' Trust Acquisition and Casino Project, Amador County, California. The Notice of Intent to prepare the EIS, published in the Federal Register on November 7, 2003 (68 FR 63127), announced a public scoping meeting for November 19, 2003, which was held, and a closing date for comments of December 8, 2003.

DATES: The additional public scoping meeting will be held on Wednesday, February 4, 2004, from 6 p.m. to 9 p.m. or until the last comment is received. The date by which written comments must arrive is extended to February 20, 2004.

ADDRESSES: The additional public scoping meeting will be held at the Amador County Fairgrounds, 18621 Sherwood and School Streets, Plymouth, California. You may mail or hand-carry written comments to Mr. Clay Gregory, Acting Regional Director, Pacific Region, Bureau of Indian Affairs, 2800 Cottage Way, Sacramento, California 95825.

FOR FURTHER INFORMATION CONTACT: William Allan, (916) 978-6043.

SUPPLEMENTARY INFORMATION: The Ione Band of Miwok Indians proposes that the Bureau of Indian Affairs take 208.06± acres of land into trust for the Band and that a casino, parking, hotel and other facilities supporting the casino be constructed on the trust acquisition property. The proposed project is located within the City of Plymouth, California. Additional details may be found in the November 7, 2003, Federal Register notice.

Areas of environmental concern identified to date for analysis in the EIS include land use, geology and soils, water resources, agricultural resources, biological resources, mineral resources, paleontological resources, cultural resources, traffic and transportation, air quality, noise, public health/environmental hazards, hazardous materials and waste/worker safety, public services and utilities, socio-economics, visual resources/aesthetics and environmental justice. Additional issues may be addressed based on comments received during the scoping process.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality Regulations (40 CFR Parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: January 6, 2004.
Aurene M. Martin,
Principal Deputy Assistant Secretary—Indian Affairs.

[FR Doc. 04-1110 Filed 1-16-04; 8:45 am]

BILLING CODE 4310-W7-P